DEPARTMENT OF STATE

[Public Notice 6545]

DEPARTMENT OF HOMELAND SECURITY

Certification Related to Implementation of The Western Hemisphere Travel Initiative

Pursuant to the authorities vested in the Secretary of State and the Secretary of Homeland Security, including under section 7209(b)(1)(B) of the Intelligence Reform and Terrorism Prevention Act of 2004 (Pub. L. 108-458), as amended by section 546 of the Department of Homeland Security Appropriations Act, 2007 (Pub. L. 109-295), section 723 of the Implementing Recommendations of the 9/11 Commission Act of 2007 (Pub. L. 110-53), and section 545 of title V of Div. E of the Consolidated Appropriations Act of 2008 (Pub. L. 110-161), we hereby certify that

(i) The National Institute of Standards and Technology certifies that the Departments of Homeland Security and State have selected a card architecture that meets or exceeds International Organization for Standardization (ISO) security standards and meets or exceeds best available practices for protection of personal identification documents: That the National Institute of Standards and Technology has also assisted the Departments of Homeland Security and State to incorporate into the architecture of the card the best available practices to prevent the unauthorized use of information on the card: That to facilitate efficient cross-border travel, the Departments of Homeland Security and State have, to the maximum extent possible, developed an architecture that is compatible with information technology systems and infrastructure used by United States Customs and Border Protection;

(ii) The technology to be used by the United States for the passport card, and any subsequent change to that technology, has been shared with the governments of Canada and Mexico;

(iii) An agreement has been reached with the United States Postal Service on the fee to be charged individuals for the passport card, and a detailed justification has been submitted to the Committees on Appropriations of the Senate and the House of Representatives;

(iv) An alternative procedure has been developed for groups of children traveling across an international border under adult supervision with parental consent;

(v) The necessary technological infrastructure to process the passport cards has been installed, and all employees at ports of entry have been properly trained in the use of the new technology;

(vi) The passport card has been made available for the purpose of international travel by United States citizens through land and sea ports of entry between the United States and Canada, Mexico, the Caribbean and Bermuda;

(vii) A single implementation date for sea and land borders has been established; and

(viii) The signing of a memorandum of agreement to initiate a pilot program with not less than one State to determine if an enhanced driver's license, which is machine-readable and tamper proof, not valid for certification of citizenship for any purpose other than admission into the United States from Canada or Mexico, and issued by such State to an individual, may permit the individual to use the driver's license to meet the documentation requirements under subparagraph (A) of section 7209(b)(1) for entry into the United States from Canada or Mexico at land and sea ports of entry.

This certification and related Memorandum of Justification shall be provided to the Committees on Appropriations of the Senate and House of Representatives. This certification shall be published in the Federal Register.

Dated: February 24, 2009.
Janet Napolitano,
Secretary of Homeland Security.
Dated: February 24, 2009.
Hillary Rodham Clinton,
Secretary of State.

[FR Doc. E9-5742 Filed 3-16-09; 8:45 am]

BILLING CODE 4710-06-P